DEPARTMENT OF TRANSPORTATION

Federal Aviation Administration

14 CFR Part 71

[Docket No. FAA-2003-16749; Airspace Docket No. 03-ACE-93]

Modification of Class E Airspace; Beloit, KS

AGENCY: Federal Aviation Administration (FAA), DOT.

ACTION: Direct final rule; request for comments; correction.

SUMMARY: This action corrects a direct final rule; request for comments that was published in the Federal Register on Monday, January 12, 2004 (69 FR 1661) [FR Doc. 04-483]. It corrects an error in the Beloit, KS Class E airspace area legal description.

DATES: This direct final rule is effective on 0901 UTC, April 15, 2004.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register Document 04-483, published on Monday, January 12, 2004 (69 FR 1661) modified Class E airspace at Beloit, KS. The modification was to change the name of the airport at Beloit, KS from Beloit Municipal Airport to Moritz Memorial Airport, to enlarge the controlled airspace area around Moritz Memorial Airport for proper protection of diverse departures and to bring the Beloit, KS Class E airspace area legal description into compliance with FAA Order 7400.2E, Procedures for Handling Airspace Matters. However, the Beloit, KS Class E airspace area legal description was published incorrectly.

Accordingly, pursuant to the authority delegated to me, the Beloit, KS Class E airspace, as published in the Federal Register on Monday, January 12, 2004 (69 FR 1661) (FR Doc. 04-483) is corrected as follows:

§ 71.1 [Corrected]

On page 1662, Column 2, paragraph headed “ACE E5 Beloit, KS,” first line, change “Moritz Memorial Airport, IA” to read “Beloit, Moritz Memorial Airport, KS.”

Issued in Kansas City, MO, on January 13, 2004.
Elizabeth S. Wallis,
Acting Manager, Air Traffic Division, Central Region.

[FR Doc. 04-2186 Filed 2-2-04; 8:45 am]

BILLING CODE 4910-13-M